DEPARTMENT OF TRANSPORTATION

[Docket No. DOT-OST-2017-0010]

Office of the Assistant Secretary for Research and Technology (OST-R); Request for Clearance for an Information Collection: Annual Tank Car Survey

AGENCY: Bureau of Transportation Statistics (BTS) Office of the Assistant Secretary for Research and Technology (OST-R), DOT.

ACTION: Notice and request for comments.

SUMMARY: The BTS is seeking approval from the Office of Management and Budget (OMB) for an information collection related to tank car facilities to obtain an estimate of tank cars projected to be modified or built to the new safer Department of Transportation (DOT) standards.

DATES: Interested persons are invited to submit comments on or before May 22, 2017.

ADDRESSES: You may submit comments identified by Docket No. DOT-OST-2017-0010 through the Federal eRulemaking Portal: http://www.regulations.gov. Follow the online instructions for submitting comments. You may also submit comments identified by DOT Docket ID Number DOT-OST-2017-0010 to the U.S. Department of Transportation (DOT), Dockets Management System (DMS). You may submit your comments by mail or in person to the Docket Clerk, Docket Management System, U.S. Department of Transportation, 1200 New Jersey Ave. SE., West Building Room W12-140, Washington, DC 20590. Comments should identify the docket number as indicated above. Paper comments should be submitted in duplicate. The DMS is open for examination and copying, at the above address, from 9 a.m. to 5 p.m., Monday through Friday, except federal holidays. If you wish to receive confirmation of receipt of your written comments, please include a self-addressed, stamped postcard with the following statement: “Comments on Docket DOT-OST-2017-0010.” The Docket Clerk will date stamp the postcard prior to returning it to you via the U.S. mail. Please note that due to delays in the delivery of U.S. mail to Federal offices in Washington, DC, we recommend that persons consider an alternative method (the Internet, fax, or professional delivery service) to submit comments to the docket and ensure their timely receipt at U.S. DOT. You may fax your comments to the DMS at (202) 493-2251. Comments can also be viewed and/or submitted via the Federal Rulemaking Portal: http://www.regulations.gov.

Please note that anyone is able to electronically search all comments received into our docket management system by the name of the individual submitting the comment (or signing the comment if submitted on behalf of an association, business, labor union, etc.). You may review DOT's complete Privacy Act Statement in the Federal Register published on April 11, 2000 (Volume 65, Number 70; pages 19475-19570) or you may review the Privacy Act Statement at http://www.gpoaccess.gov/fr/.

FOR FURTHER INFORMATION CONTACT: Clara Reschovsky, Bureau of Transportation Statistics, Office of the Assistant Secretary for Research and Technology, Department of Transportation 1200 New Jersey Avenue SE., Room E34-409, Washington, DC 20590, Telephone (202) 366-2857.

SUPPLEMENTARY INFORMATION: In accordance with the requirements of 44 U.S.C. Section 3506(c)(2)(A) (the Paperwork Reduction Act of 1995), this notice announces the intention of the BTS to request the Office of Management and Budget's (OMB's) approval for an information collection related to Section 7308 of the Fixing America's Surface Transportation Act (Pub. L. 114-94; the “FAST Act”). Specifically, Section 7308(c) of the FAST ACT directs the Secretary of Transportation to conduct a survey of tank car facilities to obtain an estimate of tank cars projected to be modified or built to the new safer Department of Transportation (DOT) Specification 117 or 117R. In order to satisfy the FAST Act requirements, BTS is planning the data collection. BTS invites comments on its intention to collect information from tank car retrofitting and manufacturing facilities on the planned and projected number of tank cars to be retrofitted or manufactured beginning the next calendar year, annually. Any facility identified with the capacity to modify or build new tank cars to the 117 or 117R specification, as described in Section 7308(c) of the FAST Act will be included in the survey identified in this notice and submit the results to the Bureau of Transportation Statistics (BTS) no later than 60 days upon request. Individual responses to the survey will be kept confidential and a summary report of aggregate findings will be provided to:

(1) The Committee on Commerce, Science, and Transportation of the Senate; and

(2) The Committee on Transportation and Infrastructure of the House of Representatives.

In addition, this summary report will also be published to the BTS Web page.

Title: Annual Tank Car Survey.

Background: On December 4, 2015, President Barack Obama signed legislation entitled “Fixing America's Surface Transportation Act of 2015,” or the “FAST Act.” See Public Law 114-94. The FAST Act includes the “Hazardous Materials Transportation Safety Improvement Act of 2015” (see Sections 7001 through 7311) and instructs the Secretary of Transportation to make specific regulatory amendments to the Hazardous Materials Regulations (HMR; 49 CFR parts 171-180), including requirements for certain persons to report the progress toward modifying rail tank cars used for the transportation of Class 3 flammable liquids in accordance with the timeline established in Section 7304 of the FAST Act.

This notice is applicable to Section 7308(c) of the FAST Act which directs the Secretary to conduct an annual survey of tank car shops to acquire projections of the number of tank cars to be built or manufactured to the new safer specifications. This includes those tank cars modified to the DOT Specification 117R, or equivalent, as well as any new tank cars built to the DOT Specification 117, or equivalent. Modified tank cars will include, but may not be limited to, those previously built to Specifications: DOT105, DOT109, DOT111, DOT112, DOT114, DOT115, and DOT120.

Respondents: Across the nation there are approximately 400 tank car facilities that are currently registered or certified to build or modify tank cars. However, the majority of these do not have the capacity to modify or build to the 117 or 117R Specifications. It is estimated that, at most, 140 tank car shops possess the required capacity to build or modify to these new safer requirements.

Estimated Average Burden per Response: It is estimated that 140 facilities will provide one response each to this request for information on an annual basis, and that it will take approximately 30 minutes to complete, including record keeping and reporting. This notice is intended to accurately account for the annual burden.

Estimated Total Annual Burden: The estimated burden is equal to 70 annual burden hours (i.e., 140 responses per year × 0.5 hour per response). The total burden cost is estimated at $3,342 (i.e., 70 burden hours × $47.74 per hour for a manager in Transportation, Storage, and Distribution).

Frequency: The survey frequency is prescribed by Section 7308(d) of the FAST Act. Specifically, this section requires the Secretary to conduct the survey under Section 7308(c) annually until May 1, 2029.

Public Comments Invited: Interested parties are invited to send comments regarding any aspect of this information collection, including, but not limited to: (1) The necessity and utility of the information collection for the proper performance of the functions of the DOT; (2) the accuracy of the estimated burden; (3) ways to enhance the quality, utility, clarity and content of the collected information; and (4) ways to minimize the collection burden without reducing the quality of the collected information. Comments submitted in response to this notice will be summarized and/or included in the request for OMB's clearance of this information collection.

Issued in Washington, DC, on March 9, 2017.
Patricia S. Hu,
Director, Bureau of Transportation Statistics, Office of the Assistant Secretary for Research and Technology.

[FR Doc. 2017-05644 Filed 3-21-17; 8:45 am]

BILLING CODE 4910-9X-P